DEPARTMENT OF HOMELAND SECURITY

Federal Emergency Management Agency

44 CFR Part 64

[Docket ID FEMA-2011-0002; Internal Agency Docket No. FEMA-8171]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq., unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
Pennsylvania:
Allegheny, Township of, Westmoreland County | 420869 | July 27, 1973, Emerg; September 29, 1978, Reg; March 17, 2011, Susp | March 17, 2011 | March 17, 2011.
Arnold, City of, Westmoreland County | 420870 | May 31, 1974, Emerg; September 30, 1980, Reg; March 17, 2011, Susp | *-do- | -do.-
Arona, Borough of, Westmoreland County | 420871 | April 9, 1976, Emerg; December 1, 1986, Reg; March 17, 2011, Susp | -do- | -do.-
Avonmore, Borough of, Westmoreland County | 420872 | July 29, 1975, Emerg; January 20, 1982, Reg; March 17, 2011, Susp | -do- | -do.-
Bell, Township of, Westmoreland County | 422185 | May 28, 1982, Emerg; January 1, 1987, Reg; March 17, 2011, Susp | -do- | -do.-
Bolivar, Borough of, Westmoreland County | 420873 | August 13, 1976, Emerg; August 10, 1979, Reg; March 17, 2011, Susp | -do- | -do.-
Cook, Township of, Westmoreland County | 422186 | May 28, 1982, Emerg; April 17, 1985, Reg; March 17, 2011, Susp | -do- | -do.-
Delmont, Borough of, Westmoreland County | 422177 | February 17, 1976, Emerg; September 29, 1978, Reg; March 17, 2011, Susp | -do- | -do.-
Derry, Borough of, Westmoreland County | 420874 | May 14, 1974, Emerg; June 1, 1978, Reg; March 17, 2011, Susp | -do- | -do.-
Derry, Township of, Westmoreland County | 421205 | May 14, 1974, Emerg; June 1, 1978, Reg; March 17, 2011, Susp | -do- | -do.-
Donegal, Township of, Westmoreland County | 422187 | January 2, 1981, Emerg; October 16, 1990, Reg; March 17, 2011, Susp | -do- | -do.-
East Huntingdon, Township of, Westmoreland County | 422188 | March 3, 1977, Emerg; August 2, 1990, Reg; March 17, 2011, Susp | -do- | -do.-
East Vandergrift, Borough of, Westmoreland County | 420875 | September 10, 1975, Emerg; May 29, 1979, Reg; March 17, 2011, Susp | -do- | -do.-
Export, Borough of, Westmoreland County | 420876 | April 17, 1975, Emerg; December 15, 1981, Reg; March 17, 2011, Susp | -do- | -do.-
Fairfield, Township of, Westmoreland County | 422189 | July 5, 1984, Emerg; April 17, 1985, Reg; March 17, 2011, Susp | -do- | -do.-
Greensburg, City of, Westmoreland County | 420877 | May 24, 1973, Emerg; October 17, 1978, Reg; March 17, 2011, Susp | -do- | -do.-
Hempfield, Township of, Westmoreland County | 420878 | April 16, 1973, Emerg; September 29, 1978, Reg; March 17, 2011, Susp | -do- | -do.-
Hunker, Borough of, Westmoreland County | 420880 | November 14, 1975, Emerg; November 19, 1986, Reg; March 17, 2011, Susp | -do- | -do.-
Hyde Park, Borough of, Westmoreland County | 422179 | December 4, 1975, Emerg; June 1, 1986, Reg; March 17, 2011, Susp | -do- | -do.-
Irwin, Borough of, Westmoreland County | 420881 | June 18, 1974, Emerg; February 4, 1981, Reg; March 17, 2011, Susp | -do- | -do.-
Jeannette, City of, Westmoreland County | 420882 | October 1, 1971, Emerg; April 17, 1978, Reg; March 17, 2011, Susp | -do- | -do.-
Latrobe, Borough of, Westmoreland County | 420883 | December 10, 1974, Emerg; January 16, 1980, Reg; March 17, 2011, Susp | -do- | -do.-
Ligonier, Borough of, Westmoreland County | 422180 | April 30, 1975, Emerg; October 15, 1980, Reg; March 17, 2011, Susp | -do- | -do.-
Ligonier, Township of, Westmoreland County | 420884 | September 6, 1974, Emerg; September 1, 1978, Reg; March 17, 2011, Susp | -do- | -do.-
Lower Burrell, City of, Westmoreland County | 420885 | September 9, 1974, Emerg; February 17, 1982, Reg; March 17, 2011, Susp | -do- | -do.-
Loyalhanna, Township of, Westmoreland County | 422190 | December 2, 1975, Emerg; January 20, 1982, Reg; March 17, 2011, Susp | -do- | -do.-
Manor, Borough of, Westmoreland County | 420886 | August 29, 1973, Emerg; September 1, 1977, Reg; March 17, 2011, Susp | -do- | -do.-
Monessen, City of, Westmoreland County | 420887 | December 5, 1974, Emerg; July 16, 1981, Reg; March 17, 2011, Susp | -do- | -do.-
Mount Pleasant, Borough of, Westmoreland County | 422181 | July 7, 1975, Emerg; February 1, 1987, Reg; March 17, 2011, Susp | -do- | -do.-
Mount Pleasant, Township of, Westmoreland County | 420888 | September 26, 1973, Emerg; July 18, 1977, Reg; March 17, 2011, Susp | -do- | -do.-
Murrysville, City of, Westmoreland County | 421207 | May 23, 1974, Emerg; February 17, 1982, Reg; March 17, 2011, Susp | -do- | -do.-
New Florence, Borough of, Westmoreland County | 420890 | February 25, 1977, Emerg; June 3, 1988, Reg; March 17, 2011, Susp | -do- | -do.-
New Kensington, City of, Westmoreland County | 420891 | June 14, 1973, Emerg; September 29, 1978, Reg; March 17, 2011, Susp | -do- | -do.-
New Stanton, Borough of, Westmoreland County | 420892 | September 30, 1975, Emerg; December 15, 1981, Reg; March 17, 2011, Susp | -do- | -do.-
North Belle Vernon, Borough of, Westmoreland County | 422182 | March 7, 1978, Emerg; September 30, 1980, Reg; March 17, 2011, Susp | -do- | -do.-
North Huntingdon, Township of, Westmoreland County | 420893 | February 9, 1973, Emerg; September 29, 1978, Reg; March 17, 2011, Susp | -do- | -do.-
North Irwin, Borough of, Westmoreland County | 422641 | February 9, 1976, Emerg; November 17, 1978, Reg; March 17, 2011, Susp | -do- | -do.-
Penn, Borough of, Westmoreland County | 420895 | March 19, 1975, Emerg; February 4, 1981, Reg; March 17, 2011, Susp | -do- | -do.-
Penn, Township of, Westmoreland County | 422183 | February 7, 1975, Emerg; October 15, 1981, Reg; March 17, 2011, Susp | -do- | -do.-
Rostraver, Township of, Westmoreland County | 422184 | August 26, 1974, Emerg; September 2, 1982, Reg; March 17, 2011, Susp | -do- | -do.-
Salem, Township of, Westmoreland County | 422192 | February 29, 1980, Emerg; April 17, 1985, Reg; March 17, 2011, Susp | -do- | -do.-
Scottdale, Borough of, Westmoreland County | 420896 | January 26, 1973, Emerg; November 18, 1981, Reg; March 17, 2011, Susp | -do- | -do.-
Seward, Borough of, Westmoreland County | 422738 | N/A, Emerg; June 9, 1998, Reg; March 17, 2011, Susp | -do- | -do.-
Sewickley, Township of, Westmoreland County | 422193 | April 19, 1973, Emerg; June 1, 1978, Reg; March 17, 2011, Susp | -do- | -do.-
Smithton, Borough of, Westmoreland County | 420899 | May 4, 1976, Emerg; August 15, 1990, Reg; March 17, 2011, Susp | -do- | -do.-
South Greensburg, Borough of, Westmoreland County | 420900 | February 10, 1976, Emerg; July 3, 1986, Reg; March 17, 2011, Susp | -do- | -do.-
South Huntingdon, Township of, Westmoreland County | 422194 | February 18, 1977, Emerg; August 15, 1990, Reg; March 17, 2011, Susp | -do- | -do.-
Southwest Greensburg, Borough of, Westmoreland County | 420901 | August 29, 1975, Emerg; June 30, 1976, Reg; March 17, 2011, Susp | -do- | -do.-
St. Clair, Township of, Westmoreland County | 422191 | August 22, 1977, Emerg; September 18, 1987, Reg; March 17, 2011, Susp | -do- | -do.-
Sutersville, Borough of, Westmoreland County | 420902 | February 5, 1974, Emerg; August 1, 1977, Reg; March 17, 2011, Susp | -do- | -do.-
Trafford, Borough of, Westmoreland County | 420903 | May 30, 1975, Emerg; September 28, 1979, Reg; March 17, 2011, Susp | -do- | -do.-
Unity, Township of, Westmoreland County | 420964 | December 26, 1973, Emerg; July 17, 1978, Reg; March 17, 2011, Susp | -do- | -do.-
Upper Burrell, Township of, Westmoreland County | 422195 | August 20, 1975, Emerg; December 15, 1981, Reg; March 17, 2011, Susp | -do- | -do.-
Vandergrift, Borough of, Westmoreland County | 420904 | October 9, 1974, Emerg; September 30, 1980, Reg; March 17, 2011, Susp | -do- | -do.-
Washington, Township of, Westmoreland County | 422196 | January 3, 1977, Emerg; April 16, 1982, Reg; March 17, 2011, Susp | -do- | -do.-
West Leechburg, Borough of, Westmoreland County | 420905 | March 22, 1976, Emerg; September 28, 1979, Reg; March 17, 2011, Susp | -do- | -do.-
West Newton, Borough of, Westmoreland County | 420906 | January 12, 1973, Emerg; July 18, 1977, Reg; March 17, 2011, Susp | -do- | -do.-
Youngwood, Borough of, Westmoreland County | 420908 | March 24, 1975, Emerg; December 15, 1981, Reg; March 17, 2011, Susp | -do- | -do.-
Region IV
Kentucky:
Franklin, City of, Simpson County | 210210 | November 7, 1974, Emerg; September 27, 1985, Reg; March 17, 2011, Susp | -do- | -do.-
Simpson County, Unincorporated Areas | 210316 | July 31, 1975, Emerg; May 1, 1987, Reg; March 17, 2011, Susp | -do- | -do.-
Region V
Indiana:
Evansville, City of, Vanderburgh County | 180257 | June 25, 1971, Emerg; October 15, 1981, Reg; March 17, 2011, Susp | -do- | -do.-
Vanderburgh County, Unincorporated Areas | 180256 | June 25, 1971, Emerg; February 1, 1980, Reg; March 17, 2011, Susp | -do- | -do.-
Ohio:
Beavercreek, City of, Greene County | 390876 | August 27, 1980, Emerg; August 2, 1982, Reg; March 17, 2011, Susp | -do- | -do.-
Bellbrook, City of, Greene County | 390194 | July 28, 1972, Emerg; June 1, 1977, Reg; March 17, 2011, Susp | -do- | -do.-
Centerville, City of, Greene and Montgomery Counties | 390408 | May 19, 1975, Emerg; November 18, 1981, Reg; March 17, 2011, Susp | -do- | -do.-
Fairborn, City of, Greene County | 390195 | June 19, 1975, Emerg; November 19, 1980, Reg; March 17, 2011, Susp | -do- | -do.-
Greene County, Unincorporated Areas | 390193 | July 3, 1974, Emerg; April 1, 1981, Reg; March 17, 2011, Susp | -do- | -do.-
Huber Heights, City of, Greene, Miami, and Montgomery Counties | 390884 | December 11, 1984, Emerg; December 11, 1984, Reg; March 17, 2011, Susp | -do- | -do.-
Jamestown, Village of, Greene County | 390881 | April 22, 1983, Emerg; February 1, 1984, Reg; March 17, 2011, Susp | -do- | -do.-
Kettering, City of, Greene and Montgomery Counties | 390412 | December 12, 1973, Emerg; October 15, 1980, Reg; March 17, 2011, Susp | -do- | -do.-
Spring Valley, Village of, Greene County | 390196 | April 9, 1975, Emerg; August 1, 1980, Reg; March 17, 2011, Susp | -do- | -do.-
Xenia, City of, Greene County | 390197 | May 12, 1975, Emerg; January 2, 1981, Reg; March 17, 2011, Susp | -do- | -do.-
Yellow Springs, Village of, Greene County | 390640 | July 31, 1975, Emerg; September 4, 1985, Reg; March 17, 2011, Susp | -do- | -do.-
Region VI
Arkansas:
Beaver, Town of, Carroll County | 050595 | September 7, 1989, Emerg; March 17, 2011, Reg; March 17, 2011, Susp | -do- | -do.-
Eureka Springs, City of, Carroll County | 050322 | April 2, 1975, Emerg; July 16, 1980, Reg; March 17, 2011, Susp | -do- | -do.-
Louisiana:
Allen Parish, Unincorporated Areas | 220009 | September 4, 1978, Emerg; January 3, 1990, Reg; March 17, 2011, Susp | -do- | -do.-
Elizabeth, Town of, Allen Parish | 220324 | March 19, 1985, Emerg; February 1, 1987, Reg; March 17, 2011, Susp | -do- | -do.-
Kinder, Town of, Allen Parish | 220010 | September 8, 1975, Emerg; November 1, 1985, Reg; March 17, 2011, Susp | -do- | -do.-
Oakdale, City of, Allen Parish | 220011 | May 1, 1975, Emerg; August 5, 1985, Reg; March 17, 2011, Susp | -do- | -do.-
Oberlin, Town of, Allen Parish | 220012 | September 28, 1979, Emerg; October 12, 1982, Reg; March 17, 2011, Susp | -do- | -do.-
Reeves, Village of, Allen Parish | 220307 | June 24, 2008, Emerg; March 17, 2011, Reg; March 17, 2011, Susp | -do- | -do.-
Texas:
Como, Town of, Hopkins County | 480870 | October 4, 2002, Emerg; March 17, 2011, Reg; March 17, 2011, Susp | -do- | -do.-
Hopkins County, Unincorporated Areas | 480869 | March 6, 2001, Emerg; August 1, 2008, Reg; March 17, 2011, Susp | -do- | -do.-
Sulphur Springs, City of, Hopkins County | 480358 | November 26, 1974, Emerg; December 15, 1989, Reg; March 17, 2011, Susp | -do- | -do.-
Tira, City of, Hopkins County | 480531 | November 24, 2009, Emerg; March 17, 2011, Reg; March 17, 2011, Susp | -do- | -do.-
Region VII
Kansas:
Hillsboro, City of, Marion County | 200505 | January 17, 1977, Emerg; July 20, 1984, Reg; March 17, 2011, Susp | -do- | -do.-
Marion County, Unincorporated Areas | 200593 | December 29, 1992, Emerg; March 1, 2005, Reg; March 17, 2011, Susp | -do- | -do.-
Peabody, City of, Marion County | 200208 | September 18, 1974, Emerg; November 19, 1986, Reg; March 17, 2011, Susp | -do- | -do.-
Missouri:
Ashland, City of, Boone County | 290752 | October 7, 1976, Emerg; August 24, 1984, Reg; March 17, 2011, Susp | -do- | -do.-
Barton County, Unincorporated Areas | 290785 | September 10, 1984, Emerg; July 1, 1987, Reg; March 17, 2011, Susp | -do- | -do.-
Boone County, Unincorporated Areas | 290034 | June 4, 1979, Emerg; June 15, 1983, Reg; March 17, 2011, Susp | -do- | -do.-
Centralia, City of, Boone County | 290035 | January 31, 1975, Emerg; April 15, 1977, Reg; March 17, 2011, Susp | -do- | -do.-
Columbia, City of, Boone County | 290036 | August 27, 1971, Emerg; August 27, 1971, Reg; March 17, 2011, Susp | -do- | -do.-
Hallsville, City of, Boone County | 290712 | April 6, 2005, Emerg; January 1, 2006, Reg; March 17, 2011, Susp | -do- | -do.-
Hartsburg, Village of, Boone County | 290037 | December 15, 1975, Emerg; August 16, 1982, Reg; March 17, 2011, Susp | -do- | -do.-
Lamar, City of, Barton County | 290025 | October 14, 1975, Emerg; February 15, 1985, Reg; March 17, 2011, Susp | -do- | -do.-
Rocheport, City of, Boone and Howard Counties | 290038 | October 2, 1975, Emerg; August 2, 1982, Reg; March 17, 2011, Susp | -do- | -do.-
Sturgeon, City of, Boone County | 290039 | March 17, 1986, Emerg; May 1, 1987, Reg; March 17, 2011, Susp | -do- | -do.-
Region VIII
Colorado:
Elbert County, Unincorporated Areas | 080055 | N/A, Emerg; August 13, 2007, Reg; March 17, 2011, Susp | -do- | -do.-
Kiowa, Town of, Elbert County | 080057 | April 26, 1999, Emerg; March 17, 2011, Reg; March 17, 2011, Susp | -do- | -do.-
Simla, Town of, Elbert County | 080058 | N/A, Emerg; October 22, 2009, Reg; March 17, 2011, Susp | -do- | -do.-
Region X
Alaska:
Matanuska-Susitna, Borough of | 020021 | January 23, 1979, Emerg; May 1, 1985, Reg; March 17, 2011, Susp | -do- | -do.-
* -do- = Ditto.
Code for reading third column: Emerg.—Emergency; Reg.—Regular; Susp.—Suspension.

Dated: February 23, 2011.
Edward L. Connor,
Acting Federal Insurance and Mitigation Administrator, Department of Homeland Security, Federal Emergency Management Agency.

[FR Doc. 2011-5132 Filed 3-7-11; 8:45 am]

BILLING CODE 9110-12-P